DEPARTMENT OF DEFENSE

Department of the Army

[Docket ID: USA-2015-0026]

Proposed Collection; Comment Request

AGENCY: U.S. Army Corps of Engineers, Civil Works Directorate, Department of Army, DoD.

ACTION: Notice.

SUMMARY: In compliance with the Paperwork Reduction Act of 1995, the U.S. Army Corps of Engineers, Civil Works Directorate, Department of Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received September 21, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the U.S. Army Corps of Engineers, Directorate of Civil Works, Office of Planning and Policy, ATTN: Douglas Gorecki, 441 G Street, Washington, DC 20314, or call 202-761-5450.

SUPPLEMENTARY INFORMATION:

Title; Associated Form; and OMB Number: U.S. Army Corps of Engineers, Instrument(s) for Navigation Improvement Survey(s), Generic Collection OMB Control Number 0710-XXXX.

Needs and Uses: The primary purpose of the collections to be conducted under this clearance is to provide data which will be used in conjunction with other information to derive numerical values of shipper's, waterway carrier's and commercial fisher's behavior and estimates of transportation cost savings resulting from changes to the navigation infrastructure. In general, all collections under this generic clearance will be designed based upon accepted statistical practices and sampling methodologies, will gather consistent and valid data that are representative of the target population(s), address non-response bias issues, and achieve response rates needed to obtain statistically useful results.

Affected Public: Commodity shippers who use coastal harbors and/or inland waterways; carriers who transit inland waterways; and commercial fishers.

Annual Burden Hours: 500 hours.

Number of Respondents: 1500.

Responses per Respondent: 1.

Average Burden per Response: 0.33 hours.

Frequency: On occasion.

Respondents are users of the nation's inland waterways, harbors and ports including commercial shippers and commercial fishermen. The sample population is typically identified using available data on vessel ownership, commodities shipped; port residents (firms) and commercial fishing fleet owners and licensed fishers. The surveys are often coordinated with local governments and trade associations to encourage cooperation for a high response rate.

Dated: July 15, 2015.
Aaron Siegel,
Alternate OSD Federal Register Liaison Officer, Department of Defense.

[FR Doc. 2015-17776 Filed 7-20-15; 8:45 am]

BILLING CODE 5001-06-P